DEPARTMENT OF LABOR

Employment and Training Administration

[TA-W-61,760]

Hutchinson Technology, Eau Claire, WI; Notice of Affirmative Determination Regarding Application for Reconsideration

By application postmarked August 22, 2007, the petitioner requested administrative reconsideration of the Department of Labor's Notice of Negative Determination Regarding Eligibility to Apply for Worker Adjustment Assistance, applicable to workers and former workers of the subject firm. The denial notice was signed on July 10, 2007 and published in the Federal Register on July 26, 2007 (72 FR 41088).

The initial investigation resulted in a negative determination based on the finding that imports of suspension assemblies for disk drives did not contribute importantly to worker separations at the subject firm and no shift of production to a foreign source occurred.

In the request for reconsideration, the petitioner provided additional information regarding the subject firm's customers.

The Department has reviewed the workers' request for reconsideration and the existing record, and has determined that an administrative review is appropriate. Therefore, the Department will conduct further investigation to determine if the workers meet the eligibility requirements of the Trade Act of 1974.

Conclusion

After careful review of the application, I conclude that the claim is of sufficient weight to justify reconsideration of the Department of Labor's prior decision. The application is, therefore, granted.

Signed in Washington, DC, this 28th day of September 2007.
Elliott S. Kushner,
Certifying Officer, Division of Trade Adjustment Assistance.

[FR Doc. E7-19725 Filed 10-4-07; 8:45 am]

BILLING CODE 4510-FN-P